DEPARTMENT OF HOUSING AND URBAN DEVELOPMENT

[Docket No. FR-4837-D-38]

Delegation of Authority to the Director of the Office of Departmental Operations and Coordination

AGENCY: Office of the Secretary, HUD.

ACTION: Notice of delegation of authority.

SUMMARY: The Secretary of HUD delegates to the Director of the Office of Departmental Operations and Coordination (ODOC) all authority to perform certain functions related to the requirements of the Davis-Bacon Act, the Copeland Act, the Contract Work Hours and Safety Standards Act, Reorganization Plan No. 14 of 1950, Executive Order 13202, certain housing related statutes and other authorities with respect to labor standards, and certain Department of Labor regulations.

EFFECTIVE DATE: November 9, 2003.

FOR FURTHER INFORMATION CONTACT: Edward L. Johnson, Director, Office of Labor Relations, Office of Departmental Operations and Coordination, Department of Housing and Urban Development, 451 Seventh Street, SW., Suite 2102, Washington, DC 20410-9000, telephone (202) 708-0370. (This is not a toll-free number.) Individuals with hearing or speech impairments may access this number through TTY by calling the toll-free Federal Information Relay Service at 1-800-877-8339. (This is a toll-free number.)

SUPPLEMENTARY INFORMATION: The Secretary is in the process of updating delegations of authority issued to officials within the Department. In this delegation, the Secretary delegates to the Director of ODOC the authority to perform certain functions related to the requirements of labor standards statutes and other authorities.

Accordingly, the Secretary delegates authority as follows:

Section A. Authority Delegated

The Secretary delegates to the Director of ODOC all authority with respect to labor standards administration and enforcement vested in, or delegated or assigned to, the Secretary under statutes and other authorities relating to labor standards, including but not limited to the Davis-Bacon Act (40 U.S.C. 3141 et seq.), the Copeland Act (40 U.S.C. 3145), the Contract Work Hours and Safety Standards Act (40 U.S.C. 3701 et seq.), Reorganization Plan No. 14 of 1950 (5 U.S.C. App. 1 Reorg. Plan 14), the National Housing Act (12 U.S.C. 1701 et seq.), Section 202 of the National Housing Act of 1959 (12 U.S.C. 1701q), the National Affordable Housing Act (42 U.S.C. 12704 et seq.), the United States Housing Act of 1937 (42 U.S.C. 1437j), the Housing and Community Development Act of 1974 (42 U.S.C. 5301 et seq.), the Native American Housing Assistance and Self-Determination Act (25 U.S.C. 4101 et seq.), the Hawaiian Homelands Homeownership Act of 2000 (25 U.S.C. 4221 et seq.), Executive Order 13202 (66 FR 11225), as amended (66 FR 18717), and certain Department of Labor regulations (29 CFR parts 1, 3, 5, 6, and 7).

The authority delegated includes the authority to determine or adopt prevailing wage rates, which is vested in the Secretary by certain statutes including, but not limited to, the United States Housing Act of 1937 (42 U.S.C. 1437j), the Native American Housing Assistance and Self-Determination Act (25 U.S.C. 4101 et seq.), and the Hawaiian Homelands Homeownership Act of 2000 (25 U.S.C. 4221 et seq.).

Section B. Authority Excepted

The authority delegated to the Director of ODOC does not include the authority to issue or waive regulations or the authority to sue and be sued.

Section C. Authority to Redelegate

The authority delegated herein by the Secretary to the Director of ODOC may be redelegated.

Section D. Authority Revoked

All prior delegations of the authority delegated herein are revoked.

Authority: Section 7(d) of the Department of Housing and Urban Development Act, 42 U.S.C. 3535(d).

Dated: November 9, 2003.
Mel Martinez,
Secretary.

[FR Doc. 03-29057 Filed 11-20-03; 8:45 am]

BILLING CODE 4210-32-P